DEPARTMENT OF ENERGY

Federal Energy Regulatory Commission

Notice of Staff Attendance at the ReliabilityFirst Transmission Performance Subcommittee Meeting

The Federal Energy Regulatory Commission hereby gives notice that members of the Commission and/or Commission staff may attend the following meeting:

The ReliabilityFirst Transmission Performance Subcommittee Meeting:

ReliabilityFirst, 3 Summit Park Drive, Suite 600, Cleveland, OH 44131

May 20, 2024 | 1:00 p.m.-5:00 p.m. Eastern

May 21, 2024 | 8:00 a.m.-12:00 p.m. Eastern

Further information regarding this meeting may be found at: https://www.rfirst.org/events/list/.

The discussions at the above meeting may address matters at issue in the following Commission proceedings:

Docket No. RD24-5-000 Cold Weather Reliability Standards

For further information, please contact Chanel Chasanov, 202-502-8569, or chanel.chasanov@ferc.gov.

Dated: May 8, 2024.
Debbie-Anne A. Reese,
Acting Secretary.

[FR Doc. 2024-10550 Filed 5-14-24; 8:45 am]

BILLING CODE 6717-01-P